DEPARTMENT OF TRANSPORTATION

Federal Aviation Administration

14 CFR Part 39

[Docket No. FAA-2007-28749; Directorate Identifier 2007-NM-079-AD; Amendment 39-15134; AD 2007-15-05]

RIN 2120-AA64

Airworthiness Directives; McDonnell Douglas Model DC-10-10 and DC-10-10F Airplanes, Model DC-10-15 Airplanes, Model DC-10-30 and DC-10-30F (KC-10A and KDC-10) Airplanes, Model DC-10-40 and DC-10-40F Airplanes, Model MD-10-10F and MD-10-30F Airplanes, and Model MD-11 and MD-11F Airplanes

AGENCY: Federal Aviation Administration (FAA), Department of Transportation (DOT).

ACTION: Final rule; request for comments.

SUMMARY: The FAA is adopting a new airworthiness directive (AD) for all transport category airplanes identified above. This AD requires an inspection to determine if a certain fuel pump housing electrical connector is installed. This AD also requires a revision to the FAA-approved airplane flight manual (AFM) to advise the flightcrew of the appropriate procedures for disabling certain fuel pump electrical circuits following failure of a fuel pump housing electrical connector if applicable. This AD also requires the deactivation of certain fuel tanks or fuel pumps and the installation of placards if applicable. This AD allows the optional replacement of the fuel pump housing electrical connectors with new, improved parts, which would terminate the AFM revisions, deactivation of certain fuel tanks and fuel pumps, and placard installation. This AD results from a report of two failures of the fuel pump housing electrical connector. We are issuing this AD to prevent continued arcing following a short circuit of the fuel pump housing electrical connector, which could damage the conduit that protects the power lead inside the fuel tank; this condition could create an ignition source inside the fuel tank, which, in combination with flammable fuel vapors, could result in a fuel tank explosion and consequent loss of the airplane.

DATES: This AD becomes effective August 8, 2007.

The Director of the Federal Register approved the incorporation by reference of certain publications listed in the AD as of August 8, 2007.

On December 5, 2000 (65 FR 69658, November 20, 2000), the Director of the Federal Register approved the incorporation by reference of a certain other publication listed in the AD.

We must receive comments on this AD by September 24, 2007.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: U.S. Department of Transportation, Docket Operations, M-30, West Building Ground Floor, Room W12-140, 1200 New Jersey Avenue, SE., Washington, DC 20590.

• Fax: (202) 493-2251.

• Hand Delivery: Room W12-140 on the ground floor of the West Building, 1200 New Jersey Avenue, SE., Washington, DC, between 9 a.m. and 5 p.m., Monday through Friday, except Federal holidays.

Contact Boeing Commercial Airplanes, Long Beach Division, 3855 Lakewood Boulevard, Long Beach, California 90846, Attention: Data and Service Management, Dept. C1-L5A (D800-0024), for service information identified in this AD.

FOR FURTHER INFORMATION CONTACT: Philip C. Kush, Aerospace Engineer, Propulsion Branch, ANM-140L, FAA, Los Angeles Aircraft Certification Office, 3960 Paramount Boulevard, Lakewood, California 90712-4137; telephone (562) 627-5263; fax (562) 627-5210.

SUPPLEMENTARY INFORMATION:

Discussion

We have received a report indicating that the fuel pump housing electrical connector, part number (P/N) 60-84355, failed on two McDonnell Douglas MD-11 airplanes. The airplanes had accumulated 3,000 and 3,600 flight hours since installation of the electrical connector in accordance with Boeing Alert Service Bulletin MD11-28A113. The failures were attributed to arcing between the contacts in the potted backside of the electrical connector. Subsequent x-ray inspections of the electrical connectors revealed soldering problems with the connector contacts. Continued arcing following a short circuit of the fuel pump housing electrical connector could damage the conduit that protects the power lead inside the fuel tank. This condition, if not corrected, could create an ignition source inside the fuel tank, which, in combination with flammable fuel vapors, could result in a fuel tank explosion and consequent loss of the airplane.

Fuel pump housing electrical connector, P/N 60-84355, has also been installed on McDonnell Douglas Model DC-10-10 and DC-10-10F airplanes, Model DC-10-15 airplanes, Model DC-10-30 and DC-10-30F (KC-10A and KDC-10) airplanes, Model DC-10-40 and DC-10-40F airplanes, and Model MD-10-10F and MD-10-30F airplanes, in accordance with Boeing Alert Service Bulletin DC10-28A229. Therefore, all of these models may be subject to the same unsafe condition.

Other Relevant Rulemaking

On November 1, 2000, we issued AD 2000-22-21, amendment 39-11969 (65 FR 69658, November 20, 2000), for all McDonnell Douglas DC-10, MD-10, and MD-11 series airplanes. That AD requires revising the airplane flight manual (AFM) to ensure that the flightcrew is advised of appropriate procedures for disabling certain fuel pump electrical circuits following failure of a fuel pump electrical connector. For certain airplanes, that AD also requires revising the AFM to prohibit resetting of tripped fuel pump circuit breakers. We approved installation of fuel pump housing electrical connector, P/N 60-84355, in accordance with Boeing Alert Service Bulletin DC10-28A229 or MD11-28A113, as applicable, as an alternative method of compliance (AMOC) for AD 2000-22-21. That AMOC allowed removal of certain interim operating procedures from the Procedures section of the FAA-approved AFM, which is required by paragraph (a) of AD 2000-22-21. This AD reintroduces that requirement, since we have determined that an unsafe condition exists on airplanes equipped with electrical connector P/N 60-84355.

On June 25, 2002, we issued AD 2002-13-10, amendment 39-12798 (67 FR 45053, July 8, 2002), for certain McDonnell Douglas Model DC-10-10, -10F, -15, -30, -30F, -30F (KC-10A and KDC-10), -40, and -40F airplanes; Model MD-10-10F and -30F airplanes; and Model MD-11 and -11F airplanes. That AD requires repetitive tests for electrical continuity and resistance and repetitive inspections to detect discrepancies of the fuel boost/transfer pump connectors; and corrective actions, if necessary. Accomplishing the optional replacement of all electrical connectors in accordance with paragraph (k) or (l) of this AD, as applicable, terminates the requirements of AD 2002-13-10.

On April 4, 2003, we issued AD 2003-07-14, amendment 39-13110 (68 FR 17544, April 10, 2003), for a certain McDonnell Douglas Model DC-10-30 airplane. That AD requires repetitive tests for electrical continuity and resistance and repetitive inspections to detect discrepancies of the fuel boost/transfer pump connectors; and corrective actions, if necessary. Accomplishing the optional replacement of all electrical connectors in accordance with paragraph (k) of this AD terminates the requirements of AD 2003-07-14.

Relevant Service Information

We have reviewed the following service bulletins:

• Boeing Alert Service Bulletin DC10-28A259, dated March 20, 2007, for Model DC-10-10 and DC-10-10F airplanes, Model DC-10-15 airplanes, Model DC-10-30 and DC-10-30F (KC-10A and KDC-10) airplanes, Model DC-10-40 and DC-10-40F airplanes, and Model MD-10-10F and MD-10-30F airplanes.

• Boeing Alert Service Bulletin MD11-28A138, Revision 1, dated March 26, 2007, for Model MD-11 and MD-11F airplanes.

Boeing Alert Service Bulletins DC10-28A259 and MD11-28A138 describe procedures for deactivating certain fuel tanks or fuel pumps, as applicable. The service bulletins also describe procedures for installing a placard on or adjacent to the flight engineer's fuel control panel or adjacent to display units 1 and 6, as applicable. The service bulletins also describe procedures for replacing fuel pump housing electrical connectors, P/N 60-84355, with new, improved electrical connectors, P/N 60-84355-1, and removing the placards after installing the new, improved electrical connectors.

We have also reviewed Boeing Flight Operations Bulletin DC-10-00-01A, MD-11-00-03A, and MD-10-00-02A, dated September 20, 2000, for Model DC-10-10 and DC-10-10F airplanes, Model DC-10-15 airplanes, Model DC-10-30 and DC-10-30F (KC-10A and KDC-10) airplanes, and Model DC-10-40 and DC-10-40F airplanes, Model MD-11 and MD-11F airplanes, and Model MD-10-10F and MD-10-30F airplanes. Boeing Flight Operations Bulletin DC-10-00-01A, MD-11-00-03A, and MD-10-00-02A provides instructions for revising the Procedures section of the FAA-approved AFM by inserting certain Interim Operating Procedures (IOPs). The IOPs advise the flightcrew of proper procedures for disabling certain fuel pump electrical circuits following failure of a fuel pump housing electrical connector.

FAA's Determination and Requirements of This AD

The unsafe condition described previously is likely to exist or develop on other airplanes of the same type design. For this reason, we are issuing this AD to prevent continued arcing following a short circuit of the fuel pump housing electrical connector, which could damage the conduit that protects the power lead inside the fuel tank; this condition could create an ignition source inside the fuel tank, which, in combination with flammable fuel vapors, could result in a fuel tank explosion and consequent loss of the airplane. This AD requires an inspection to determine if fuel pump housing electrical connector, P/N 60-84355, is installed. If that electrical connector is installed, this AD requires the following additional actions:

• Revising the Procedures section of the FAA-approved AFM to advise the flightcrew of the appropriate procedures for disabling certain fuel pump electrical circuits following failure of a fuel pump housing electrical connector.

• Deactivating certain fuel tanks or fuel pumps, as applicable.

• Installing placards on or adjacent to the flight engineer's fuel control panel or adjacent to display units 1 and 6, as applicable.

This AD also allows the optional replacement of the fuel pump housing electrical connectors with new, improved parts, which would terminate the AFM revisions, deactivation of certain fuel tanks and fuel pumps, and placard installation.

Differences Between the AD and Boeing Alert Service Bulletin DC10-28A259

The Accomplishment Instructions of Boeing Alert Service Bulletin DC10-28A259 is divided into work packages for airplanes identified as Groups 1, 2, 3, 4, and 5. This AD does not require any action for Group 5 airplanes. Also, this AD does not require accomplishing Work Package 2 for Groups 1, 2, and 3 airplanes and does not require accomplishing Work Package 5 for Group 4 airplanes; these work packages describe procedures for replacing the affected electrical connectors on tanks 1, 2, and 3.

Differences Between the AD and Boeing Alert Service Bulletin MD11-28A138

The Accomplishment Instructions of Boeing Alert Service Bulletin MD11-28A138 is divided into work packages for airplanes identified as Groups 1 and 2. This AD does not require accomplishing Work Package 5 for Group 1 airplanes and does not require accomplishing Work Package 6 for Group 2 airplanes; these work packages describe procedures for replacing the affected electrical connectors on main tanks 1 and 3.

The compliance tables in paragraph 1.E. of Boeing Alert Service Bulletin MD11-28A138 recommend a compliance time of 10 days for accomplishing the following actions: (1) Work Package 1—Option 1—Part 1—Tank 2 (Placards Installation) for Group 1 airplanes, (2) Work Package 1—Option 1—Part 1—Forward Auxiliary Tank (Deactivation) for Group 2 airplanes, and (3) Work Package 2—Option 1—Part 1—Tank 2 (Placards Installation) for Group 2 airplanes. This AD, however, would require accomplishing those actions within 14 days after the effective date of this AD. We have coordinated this difference with Boeing.

Clarification of Boeing Alert Service Bulletin DC10-28A259

The compliance table for Group 4 airplanes in paragraph 1.E. of Boeing Alert Service Bulletin DC10-28A259 identifies 5 work packages, one of which is “Work Package 3—Upper and Lower Center Wing Tanks.” However, the procedures for Work Package 3 are described under the headings, “Work Package 1—Option 1—Part 1—Upper and Lower Center Wing Fuel Tanks (Deactivation)” and “Work Package 1—Option 1—Part 2 or Option 2—Upper and Lower Center Wing Fuel Tank (Connector Replacement)” in the Accomplishment Instructions of the service bulletin. In this AD, we have referenced the headings for Work Package 3 exactly as they appear in the Accomplishment Instructions of the service bulletin.

Interim Action

We consider this AD interim action. We are currently considering requiring replacement of all affected electrical connectors, which will constitute terminating action for the AFM revisions, deactivation of certain fuel tanks and fuel pumps, and placard installation required by this AD action. However, the planned compliance time for the replacement of all affected connectors would allow enough time to provide notice and opportunity for prior public comment on the merits of the modification.

FAA's Determination of the Effective Date

Since an unsafe condition exists that requires the immediate adoption of this AD, we have found that notice and opportunity for public comment before issuing this AD are impracticable, and that good cause exists to make this AD effective in less than 30 days.

Comments Invited

This AD is a final rule that involves requirements that affect flight safety and was not preceded by notice and an opportunity for public comment; however, we invite you to submit any relevant written data, views, or arguments regarding this AD. Send your comments to an address listed in the ADDRESSES section. Include “Docket No. FAA-2007-28749; Directorate Identifier 2007-NM-079-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Operations office between 9 a.m. and 5 p.m., Monday through Friday, except Federal holidays. The Docket Operations office (telephone (800) 647-5527) is located on ground floor of the West Building at the DOT street address stated in the ADDRESSES section. Comments will be available in the AD docket shortly after the Docket Management System receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-15-05 McDonnell Douglas: Amendment 39-15134. Docket No. FAA-2007-28749; Directorate Identifier 2007-NM-079-AD.

Effective Date

(a) This AD becomes effective August 8, 2007.

Affected ADs

(b) Accomplishing paragraph (k) or (l) of this AD, as applicable, terminates the requirements of AD 2002-13-10, amendment 39-12798, the requirements of AD 2003-07-14, amendment 39-13110, and the requirements of paragraph (a) of AD 2000-22-21, amendment 39-11969.

Applicability

(c) This AD applies to all McDonnell Douglas Model DC-10-10 and DC-10-10F airplanes, Model DC-10-15 airplanes, Model DC-10-30 and DC-10-30F (KC-10A and KDC-10) airplanes, Model DC-10-40 and DC-10-40F airplanes, Model MD-10-10F and MD-10-30F airplanes, and Model MD-11 and MD-11F airplanes, certificated in any category.

Unsafe Condition

(d) This AD results from a report of two failures of the fuel pump housing electrical connectors. We are issuing this AD to prevent continued arcing following a short circuit of the fuel pump housing electrical connector, which could damage the conduit that protects the power lead inside the fuel tank; this condition could create an ignition source inside the fuel tank, which, in combination with flammable fuel vapors, could result in a fuel tank explosion and consequent loss of the airplane.

Compliance

(e) You are responsible for having the actions required by this AD performed within the compliance times specified, unless the actions have already been done.

Service Bulletin References

(f) The term “service bulletin,” as used in this AD, means the Accomplishment Instructions of the following service bulletins, as applicable:

(1) For Model DC-10-10 and DC-10-10F airplanes, Model DC-10-15 airplanes, Model DC-10-30 and DC-10-30F (KC-10A and KDC-10) airplanes, Model DC-10-40 and DC-10-40F airplanes, and Model MD-10-10F and MD-10-30F airplanes: Boeing Alert Service Bulletin DC10-28A259, dated March 20, 2007; and

(2) For Model MD-11 and MD-11F airplanes: Boeing Alert Service Bulletin MD11-28A138, Revision 1, dated March 26, 2007.

Inspection To Determine Part Number (P/N)

(g) For all airplanes: Within 14 days after the effective date of this AD, inspect the fuel pump housing electrical connector to determine if P/N 60-84355 is installed. A review of airplane maintenance records is acceptable in lieu of this inspection if the part number of the fuel pump housing electrical connector can be conclusively determined from that review. If P/N 60-84355 is installed, accomplish the applicable actions specified in paragraphs (h), (i), and (j) of this AD.

Airplane Flight Manual (AFM) Revision of Procedures Section

(h) For all airplanes equipped with fuel pump housing electrical connector P/N 60-84355: Within 14 days after the effective date of this AD, insert the applicable Interim Operating Procedures regarding abnormal operations for failure of the fuel pump housing electrical connector into the Procedures section of the FAA-approved AFM, in accordance with Boeing Flight Operations Bulletin DC-10-00-01A, MD-11-00-03A, and MD-10-00-02A, dated September 20, 2000. Accomplishing the applicable actions specified in paragraph (k) or (l) of this AD, as applicable, terminates the requirements of this paragraph and the corresponding requirements specified in paragraph (i) or (j) of this AD, as applicable.

Deactivation of Fuel Tanks and Placard Installation for DC-10/MD-10 Airplanes

(i) For Model DC-10-10 and DC-10-10F airplanes, Model DC-10-15 airplanes, Model DC-10-30 and DC-10-30F (KC-10A and KDC-10) airplanes, Model DC-10-40 and DC-10-40F airplanes, and Model MD-10-10F and MD-10-30F airplanes identified in the applicable service bulletin as Group 1, 2, 3, or 4 airplanes and equipped with fuel pump housing electrical connector P/N 60-84355: At the applicable time specified in Table 1 of this AD, deactivate the applicable fuel tank(s) and applicable fuel pumps and install a placard at the applicable location specified in Table 1 of this AD, in accordance with the applicable work package of the Accomplishment Instructions of the applicable service bulletin. For the placard installation required by this paragraph, alternative placard location and wording may be used if approved by an appropriate FAA Principal Operations Inspector. Accomplishing the applicable actions specified in paragraph (k) of this AD terminates the corresponding requirements of this paragraph and the AFM revision required by paragraph (h) of this AD.

Table 1.—Requirements for Model DC-10 and Model MD-10 Airplanes
Airplanes | Compliance time | Deactivated fuel tank(s) or fuel pump | Placard location | Work package
Group 1 | Within 90 days after the effective date of this AD | Auxiliary fuel tank | On or adjacent to the flight engineer's fuel control panel | Work Package 1—Part 1—Option 1—Aux Fuel Tank (Deactivation).
Group 2: Model DC-10-10 and DC-10-10F airplanes, Model DC-10-15 airplanes, Model DC-10-30 and DC-10-30F (KC-10A and KDC-10) airplanes, and Model DC-10-40 and DC-10-40F airplanes | Within 90 days after the effective date of this AD | Upper and lower auxiliary fuel tanks | On or adjacent to the flight engineer's fuel control panel | Work Package 1—Option 1—Part 1—Upper and Lower Aux Fuel Tanks (Deactivation) (DC-10/KDC-10).
Group 2: Model MD-10-10F and MD-10-30F airplanes | Within 90 days after the effective date of this AD | Upper and lower auxiliary fuel tanks | Adjacent to display units 1 and 6 | Work Package 1—Option 1—Part 1—Upper and Lower Aux Fuel Tanks (Deactivation) (MD-10).
Group 3 | Within 90 days after the effective date of this AD | Upper, lower, and aft fuel tanks | On or adjacent to the flight engineer's fuel control panel | Work Package 1—Option 1—Part 1—Upper, Lower and Aft Aux Fuel Tanks (Deactivation).
Group 4 | Within 14 days after the effective date of this AD | Fuel pump for aft fuselage tank | On or adjacent to the flight engineer's fuel control panel | Work Package 1—Option 1—Part 1—Aft Fuselage Fuel Pump (Deactivation).
| Within 14 days after the effective date of this AD | Fuel pumps for wing tip tanks 1 and 3 | On or adjacent to the flight engineer's fuel control panel | Work Package 2—Option 1—Part 1—Wing Tip Tank 1 and 3 Pumps (Deactivation).
| Within 90 days after the effective date of this AD | Upper and lower center wing tanks | On or adjacent to the flight engineer's fuel control panel | Work Package 1—Option 1—Part 1—Upper and Lower Center Wing Fuel Tanks (Deactivation).
| Within 90 days after the effective date of this AD | Fuel pump for forward fuselage tank | On or adjacent to the flight engineer's fuel control panel | Work Package 4—Option 1—Part 1—Fwd Fuselage Fuel Pump (Deactivation).

Deactivation of Fuel Tanks and Placard Installation for MD-11/-11F Airplanes

(j) For Model MD-11 and MD-11F airplanes identified in the applicable service bulletin as Group 1 and 2 airplanes and equipped with fuel pump housing electrical connector P/N 60-84355: At the applicable time specified in Table 2 of this AD, deactivate the applicable fuel tanks specified in Table 2 of this AD and install a placard adjacent to display units 1 and 6, in accordance with the applicable work package of the Accomplishment Instructions of the applicable service bulletin. For the placard installation required by this paragraph, alternative placard location and wording may be used if approved by an appropriate FAA Principal Operations Inspector. Accomplishing the applicable actions specified in paragraph (l) of this AD terminates the corresponding requirements of this paragraph and the AFM revision required by paragraph (h) of this AD.

Table 2.—Requirements for Model MD-11 and MD-11F Airplanes
Airplanes | Compliance time | Deactivated fuel tanks | Work package
Group 1 | Within 14 days after the effective date of this AD | Not applicable | Work Package 1—Option 1—Part 1—Tank 2 (Placards Installation).
| Within 90 days after the effective date of this AD | Tail tank | Work Package 2—Option 1—Part 1—Tail Tank (Deactivation).
| Within 90 days after the effective date of this AD | Not applicable | Work Package 3—Option 1—Part 1—Upper Auxiliary Tank (Placards Installation).
| Within 90 days after the effective date of this AD | Lower auxiliary tank | Work Package 4—Option 1—Part 1—Lower Auxiliary Tank (Deactivation).
Group 2 | Within 14 days after the effective date of this AD | Forward auxiliary tank | Work Package 1—Option 1—Part 1—Forward Auxiliary Tank (Deactivation).
| Within 14 days after the effective date of this AD | Not applicable | Work Package 2—Option 1—Part 1—Tank 2 (Placards Installation).
| Within 90 days after the effective date of this AD | Tail tank | Work Package 3—Option 1—Part 1—Tail Tank (Deactivation).
| Within 90 days after the effective date of this AD | Not applicable | Work Package 4—Option 1—Part 1—Upper Auxiliary Tank (Placards Installation).
| Within 90 days after the effective date of this AD | Lower auxiliary tank | Work Package 5—Option 1—Part 1—Lower Auxiliary Tank (Deactivation).

Optional Terminating Action for DC-10/MD-10 Airplanes

(k) For Model DC-10-10 and DC-10-10F airplanes, Model DC-10-15 airplanes, Model DC-10-30 and DC-10-30F (KC-10A and KDC-10) airplanes, Model DC-10-40 and DC-10-40F airplanes, and Model MD-10-10F and MD-10-30F airplanes identified in the applicable service bulletin as Group 1, 2, 3, or 4 airplanes and equipped with fuel pump housing electrical connector P/N 60-84355: As an option, replace all fuel pump housing electrical connectors, P/N 60-84355, with new, improved electrical connectors, P/N 60-84355-1, and remove the applicable placards, in accordance with the applicable work package(s) of the Accomplishment Instructions of the applicable service bulletin as specified in Table 3 of this AD. Accomplishing the applicable actions specified in this paragraph terminates the corresponding requirements of paragraph (i) of this AD and the AFM revision required by paragraph (h) of this AD.

Table 3.—Optional Work Packages for Model DC-10 and Model MD-10 Airplanes
Airplanes | Work package
Group 1 | Work Package 1—Option 1—Part 2 or Option 2—Aux Fuel Tank (Connector Replacement).
Group 2: Model DC-10-10 and DC-10-10F airplanes, Model DC-10-15 airplanes, Model DC-10-30 and DC-10-30F (KC-10A and KDC-10) airplanes, and Model DC-10-40 and DC-10-40F airplanes | Work Package 1—Option 1—Part 2 or Option 2—Upper and Lower Aux Fuel Tanks (DC-10/KDC-10) (Connector Replacement).
Group 2: Model MD-10-10F and MD-10-30F airplanes | Work Package 1—Option 1—Part 2 or Option 2—Upper and Lower Aux Fuel Tanks (MD-10) (Connector Replacement).
Group 3 | Work Package 1—Option 1—Part 2 or Option 2—Upper, Lower and Aft Aux Fuel Tanks (Connector Replacement).
Group 4 | Work Package 1—Option 1—Part 2 or Option 2—Aft Fuselage Fuel Pump (Connector Replacement).
| Work Package 2—Option 1—Part 2 or Option 2—Wing Tip Tanks 1 and 3 (Connector Replacement).
| Work Package 1—Option 1—Part 2 or Option 2—Upper and Lower Center Wing Fuel Tanks (Connector Replacement).
| Work Package 4—Option 1—Part 2 or Option 2—Fwd Fuselage Fuel Pump (Connector Replacement).

Optional Terminating Action for MD-11/-11F Airplanes

(l) For Model MD-11 and MD-11F airplanes identified in the applicable service bulletin as Group 1 and 2 airplanes and equipped with fuel pump housing electrical connector P/N 60-84355: As an option, replace all fuel pump housing electrical connectors, P/N 60-84355, with new, improved electrical connectors, P/N 60-84355-1, and remove the applicable placards, in accordance with the applicable work packages of the Accomplishment Instructions of the applicable service bulletin as specified in Table 4 of this AD. Accomplishing the applicable actions specified in this paragraph terminates the corresponding requirements of paragraph (j) of this AD and the AFM revision required by paragraph (h) of this AD.

Table 4.—Optional Work Packages for Model MD-11 and MD-11F Airplanes
Airplanes | Work package
Group 1 | Work Package 1—Option 1—Part 2 or Option 2—Tank 2 (Connector Replacement).
| Work Package 2—Option 1—Part 2 or Option 2—Tail Tank (Connector Replacement).
| Work Package 3—Option 1—Part 2 or Option 2—Upper Auxiliary Tank (Connector Replacement).
| Work Package 4—Option 1—Part 2 or Option 2—Lower Auxiliary Tank (Connector Replacement).
Group 2 | Work Package 1—Option 1—Part 2 or Option 2—Forward Auxiliary Tank (Connector Replacement).
| Work Package 2—Option 1 Part 2 or Option 2—Tank 2 (Connector Replacement).
| Work Package 3—Option 1—Part 2 or Option 2—Tail Tank (Connector Replacement).
| Work Package 4—Option 1—Part 2 or Option 2—Upper Auxiliary Tank (Connector Replacement).
| Work Package 5—Option 1—Part 2 or Option 2—Lower Auxiliary Tank (Connector Replacement).

Parts Installation

(m) For all airplanes: As of the effective date of this AD, no person may install a fuel pump housing electrical connector, P/N 60-84355, on any airplane.

Terminating Action for AD 2002-13-10

(n) Replacing all fuel pump housing electrical connectors, P/N 60-84355, with new, improved parts in accordance with paragraph (k) or (l) of this AD, as applicable, terminates the requirements of AD 2002-13-10.

Terminating Action for AD 2003-07-14

(o) Replacing all fuel pump housing electrical connectors, P/N 60-84355, with new, improved parts in accordance with paragraph (k) of this AD terminates the requirements of AD 2003-07-14.

Terminating Action for Paragraph (a) of AD 2000-22-21

(p) Replacing all fuel pump housing electrical connectors, P/N 60-84355, with new, improved parts in accordance with paragraph (k) or (l) of this AD, as applicable, terminates the requirements of paragraph (a) of AD 2000-22-21.

Alternative Methods of Compliance (AMOCs)

(q)(1) The Manager, Los Angeles Aircraft Certification Office, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(r) You must use the service information identified in Table 5 of this AD to perform the actions that are required by this AD, unless the AD specifies otherwise.

Table 5.—Material Incorporated by Reference
Service information | Revision level | Date
Boeing Alert Service Bulletin DC10-28A259 | Original | March 20, 2007.
Boeing Alert Service Bulletin MD11-28A138 | 1 | March 26, 2007.
Boeing Flight Operations Bulletin DC-10-00-01A, MD-11-00-03A, and MD-10-00-02A | Original | September 20, 2000.

(1) The Director of the Federal Register approved the incorporation by reference of Boeing Alert Service Bulletin DC10-28A259, dated March 20, 2007; and Boeing Alert Service Bulletin MD11-28A138, Revision 1, dated March 26, 2007; in accordance with 5 U.S.C. 552(a) and 1 CFR part 51.

(2) On December 5, 2000 (65 FR 69658, November 20, 2000), the Director of the Federal Register approved the incorporation by reference of Boeing Flight Operations Bulletin DC-10-00-01A, MD-11-00-03A, and MD-10-00-02A, dated September 20, 2000.

(3) Contact Boeing Commercial Airplanes, Long Beach Division, 3855 Lakewood Boulevard, Long Beach, California 90846, Attention: Data and Service Management, Dept. C1-L5A (D800-0024), for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on July 13, 2007.
Stephen P. Boyd,
Acting Manager, Transport Airplane Directorate, Aircraft Certification Service.

[FR Doc. E7-14043 Filed 7-23-07; 8:45 am]

BILLING CODE 4910-13-P